FEDERAL MARITIME COMMISSION

Security for the Protection of the Public Indemnification of Passenger for Nonperformance of Transportation; Notice of Issuance of Certificate (Performance)

Notice is hereby given that the following have been issued a Certificate of Financial Responsibility for Indemnification of Passengers for Nonperformance of Transportation pursuant to the provisions of Section 3, Public Law 89-777 (46 App. U.S.C. 817 (e)) and the Federal Maritime Commission's implementing regulations at 46 CFR part 540, as amended:

Ambassadors International, Inc., Ambassadors Cruise Group, LLC d/b/a Majestic America Line, DQSC Operations, LLC d/b/a Delta Queen Steamboat Company, American West Steamboat Company LLC d/b/a American West Steamboat Company, DQ Boat, LLC and AQ Boat, LLC, MQ Boat, LLC, EN Boat LLC, QW Boat LLC, 1071 Camelback Street, Newport Beach, CA 92660.

Vessels: AMERICAN QUEEN, DELTA QUEEN, MISSISSIPPI QUEEN, EMPRESS OF THE NORTH, QUEEN OF THE WEST, COLUMBIA QUEEN.

Fred Olsen Cruise Lines Ltd., Fred. Olsen House, White House Road, Ipswich, Suff IP1 5LL, United Kingdom.

Vessel: BALMORAL.

MSC Corciere S.P.A. d/b/a MSC Cruises, Piazza Garibaldi 91, Naples, 80142 Italy.

Vessel: MUSICA, OPERA, LIRICA.

Dated: March 2, 2007.
Bryant L. VanBrakle,
Secretary.

[FR Doc. E7-4085 Filed 3-7-07; 8:45 am]

BILLING CODE 6730-01-P